DEPARTMENT OF JUSTICE

Notice of Lodging of Consent Decree Pursuant to the Comprehensive Environmental Response, Compensation, and Liability Act

In accordance with Departmental policy and 42 U.S.C. 9622(d)(2), notice is hereby given that on March 13, 2002, a proposed consent decree in a case captioned United States v. A.O. Smith Corp., et al., Civil Action No. 1:02-CV-0168 (W.D. Mich.) was lodged with the United States District Court for the Western District of Michigan. The proposed consent decree relates to the Ionia City Landfill Superfund Site (“Site”) in the City of Ionia, Ionia County, Michigan.

In a compliant that was filed simultaneously with the Consent Decree, the United States sought recovery of response costs and performance of response actions at the Site pursuant to Sections 106(a) and 107(a) of the Comprehensive Environmental Response, Compensation, and Liability Act, as amended, 42 U.S.C. 9606(a), 9607(a), against A.O. Smith Corp., the City of Ionia, Consumers Energy Co., Federal-Mogul Corp., General Motors Corp., Kmart Corp., the Michigan Department of Corrections, and Premiere Agri Technologies, Inc. (the “Defendants”). Under the proposed consent decree, the Defendants will perform the remedy selected in a Record of Decision that EPA issued for the Site on September 28, 2000. The remedy includes restricting access to and development of certain portions of the Site; maintaining the existing groundwater treatment system; maintaining institutional controls; and monitoring the natural attenuation that is taking place. Defendant A.O. Smith also agrees to pay all future response costs at the Site. Under a prior Consent Decree, the Defendants already had paid all past response costs.

The Department of Justice will receive, for a period of thirty (30) days from the date of this publication, comments relating to the proposed consent decree. Comments should be addressed to the Assistant Attorney General of the Environment and Natural Resource Division, Department of Justice, Washington, DC 20530, and should refer to United States v. A.O. Smith Corp., et al., Civil Action No. 1:02-CV-0168 (W.D. Mich.) and DOJ Reference No. 90-11-2-476/1.

The proposed consent decree may be examined at: (1) the Office of the United States Attorney for the Western District of Michigan, 330 Ionia Ave., NW., Grand Rapids, MI 49503; and (2) the United States Environmental Protection Agency (Region 5), 77 West Jackson Boulevard, Chicago, Illinois 60604-3590. Copies of the proposed consent decree may be obtained by mail from the Department of Justice Consent Decree Library, P.O. Box 7611, Washington, DC 20044. In requesting copies from the Consent Decree Library, please refer to the above-referenced case and DOJ Reference Number 90-11-2-476/1 and enclose a check for $81.00 (324 pages at 25 cents per page reproduction cost) made payable to the Consent Decree Library.

William D. Brighton,
Assistant Section Chief, Environmental Enforcement Section, Environment and Natural Resources Division.

[FR Doc. 02-7418 Filed 3-27-02; 8:45 am]

BILLING CODE 4410-15-M